DEPARTMENT OF HOUSING AND URBAN DEVELOPMENT

[Docket No. 5415-FA-15]

Announcement of Funding Awards Family Unification Program (FUP) Fiscal Year (FY) 2010

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department in a competition for funding under the FY2010 Notice of Funding Availability (NOFA) for the Family Unification Program (FUP). This announcement contains the consolidated names and addresses of the award recipients for this year under the FUP Program.

FOR FURTHER INFORMATION CONTACT: Lisa Smyth, Grants Management Center, Office of Public and Indian Housing, Department of Housing and Urban Development, 451 Seventh Street SW., B133 Potomac Center, 3rd Floor, Washington, DC 20410, telephone number 202-475-8835. Hearing or speech-impaired individuals may access this number via TTY by calling the toll-free Federal Relay Service at (800) 877-8339.

SUPPLEMENTARY INFORMATION: The FUP provides grants to public housing authorities (PHAs) that have an existing Annual Contributions Contracts (ACC) with HUD for Housing Choice Vouchers to provide voucher assistance for obtaining adequate housing as a means to promote family unification. More specifically, the FUP vouchers will be used to promote unification of families for whom the lack of adequate housing is a primary factor in the separation, or the threat of imminent separation, of children from their families or the delay in the discharge of the child, or children, to the family from out-of-home care. FUP vouchers under the NOFA will also be used for youths 18 to 21 years old who left foster care at age 16 or older and lack adequate housing.

The FY2010 awards announced in this notice identify applicants that were selected for funding in a competition posted on HUD's Web site on October 5, 2010. Applications were reviewed and selected based on rating and scoring in accordance with the FUP NOFA, which made approximately $15 million available for distribution.

In accordance with Section 102 (a)(4)(C) of the Department of Housing and Urban Development Reform Act of 1989 (42 U.S.C. 3545), the Department is publishing the names, addresses, and amounts of the 32 awards made under the competition in Appendix A to this notice.

Dated: February 24, 2012.
Sandra B. Henriquez,
Assistant Secretary for Public and Indian Housing.

Appendix A

Fiscal Year 2010 Funding Awards for the Family Unification Program
Recipient | Address | City | State | Zip code | Amount | Vouchers
City of Oceanside Community Development Commission | 300 North Coast Highway | Oceanside | CA | 92054 | $485,787 | 48
Napa Housing Authority | 1115 Seminary Street | Napa | CA | 94559 | 392,292 | 50
Plumas County Community Development Commission | P.O. Box 319 | Quincy | CA | 95971 | 137,361 | 25
Vacaville Housing Authority | 40 Eldridge Avenue Suite 2 | Vacaville | CA | 95688 | 381,894 | 50
Boulder County Housing Authority | P.O. Box 471 | Boulder | CO | 80306 | 444,330 | 50
Fort Collins Housing Authority | 1715 West Mountain Avenue | Fort Collins | CO | 80521 | 381,924 | 50
Housing Authority of the City of Aurora, CO | 10745 East Kentucky Avenue | Aurora | CO | 80012 | 433,890 | 50
Housing Authority of the City of Meriden | 22 Church Street | Meriden | CT | 6451 | 38,597 | 4
Broward County Housing Authority | 4780 North State Road 7 | Lauderdale Lakes | FL | 33319 | 1,181,436 | 100
The Housing Authority of the City of Tampa | 1514 Union Street | Tampa | FL | 33607 | 316,302 | 35
Chicago Housing Authority | 60 East Van Buren | Chicago | IL | 60605 | 923,232 | 100
Rock Island Housing Authority | 227-21st Street | Rock Island | IL | 61201 | 121,323 | 25
Springfield Housing Authority | 200 North Eleventh Street | Springfield | IL | 62703 | 242,274 | 50
Manhattan Housing Authority | P.O. Box 1024, 300 North 5th Street | Manhattan | KS | 66505 | 109,107 | 25
Massachusetts Dept. of Housing and Community Development | 100 Cambridge Street Suite 300 | Boston | MA | 2114 | 1,068,708 | 100
Housing Authority of Baltimore City | 1225 West Pratt Street | Baltimore | MD | 21223 | 941,880 | 100
Housing Authority of St. Mary's County, Maryland (HASMC) | 21155 Lexwood Drive Suite C | Lexington Park | MD | 20653 | 474,282 | 50
Minneapolis Public Housing Authority | 1001 Washington Avenue North | Minneapolis | MN | 55401 | 858,000 | 100
Housing Authority of the City of Charlotte, NC | 1301 South Boulevard | Charlotte | NC | 28203 | 682,764 | 100
Housing Authority of the City of Wilmington, NC | 1524 South 16th Street | Wilmington | NC | 28401 | 292,530 | 50
Housing Authority of Portland | 135 SW. Ash Street | Portland | OR | 97204 | 727,020 | 100
Housing Authority of the City of Salem | 360 Church Street South East | Salem | OR | 97301 | 529,248 | 100
Housing Authority of the County of Salt Lake | 3595 South Main Street | Salt Lake City | UT | 84115 | 752,568 | 100
City of Roanoke Redevelopment & Housing Authority | 2624 Salem Turnpike NW | Roanoke | VA | 24017 | 267,312 | 50
Danville Redevelopment and Housing Authority | 135 Jones Crossing | Danville | VA | 24541 | 258,102 | 50
Burlington Housing Authority | 64 Main Street | Burlington | VT | 5401 | 400,020 | 50
Vermont State Housing Authority | One Prospect Street | Montpelier | VT | 5602 | 585,684 | 100
Housing Authority of Snohomish County | 12625 4th Avenue W, Suite 200 | Everett | WA | 98204 | 454,830 | 50
Housing Authority of the County of Clallam | 2603 South Francis Street | Port Angeles | WA | 98362 | 129,912 | 25
Housing Authority of the County of King | 600 Andover Park West | Tukwila | WA | 98188 | 233,087 | 24
Seattle Housing Authority | 120 Sixth Avenue North | Seattle | WA | 98109 | 625,944 | 100
City of Kenosha Housing Authority | 625 52nd Street Room 98 | Kenosha | WI | 53140 | 122,671 | 20

[FR Doc. 2012-5885 Filed 3-9-12; 8:45 am]

BILLING CODE 4210-67-P